DEPARTMENT OF COMMERCE

National Oceanic and Atmospheric Administration

[RTID 0648-XA953]

Pacific Fishery Management Council; Public Meetings

AGENCY: National Marine Fisheries Service, National Oceanic and Atmospheric Administration, Commerce.

ACTION: Notice of public meetings.

SUMMARY: The Pacific Fishery Management Council (Pacific Council) and its advisory entities will hold online public meetings.

DATES: The Pacific Council and its advisory entities will meet online April 6-9 and 12-15, 2021, noting there will be no meetings Saturday, April 10 and Sunday, April 11, 2021. The Pacific Council meeting will begin on Thursday, April 8, 2021 at 8 a.m. Pacific Time (PT), reconvening at 8 a.m. Friday, April 9 and Monday, April 12, each day through Thursday, April 15, 2021. All meetings are open to the public, except a Closed Session will be held from 8 a.m. to 9 a.m., Thursday, April 8, to address litigation and personnel matters. The Pacific Council will meet as late as necessary each day to complete its scheduled business.

ADDRESSES: Meetings of the Pacific Council and its advisory entities will be webinar only.

Council address: Pacific Fishery Management Council, 7700 NE Ambassador Place, Suite 101, Portland, Oregon 97220. Instructions for attending the meeting via live stream broadcast are given under SUPPLEMENTARY INFORMATION, below.

FOR FURTHER INFORMATION CONTACT: Mr. Chuck Tracy, Executive Director; telephone: 503-820-2415 or 866-806-7204 toll-free; or access the Pacific Council website, www.pcouncil.org for the proposed agenda and meeting briefing materials.

SUPPLEMENTARY INFORMATION: The April 6-9 and 12-15, 2021 meeting of the Pacific Council will be streamed live on the internet. The broadcasts begin initially at 9 a.m. PT Thursday, April 8, 2021 and continue at 8 a.m. Friday, April 9, and Monday, April 12 daily through Thursday, April 15. No meetings are scheduled for Saturday, April 10 through Sunday, April 11, 2021. Broadcasts end when business for the day is complete. Only the audio portion and presentations displayed on the screen at the Pacific Council meeting will be broadcast. The audio portion for the public is listen-only except that an opportunity for oral public comment will be provided prior to Council Action on each agenda item. You can attend the webinar online using a computer, tablet, or smart phone, using the webinar application. Specific meeting information, including directions on how to join the meeting and system requirements will be provided in the meeting announcement on the Pacific Council's website (see www.pcouncil.org). It is recommended that you use a computer headset to listen to the meeting, but you may use your telephone for the audio-only portion of the meeting.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance April 2021 briefing materials and posted on the Pacific Council website at www.pcouncil.org no later than Friday, March 26, 2021.

A. Call to Order

1. Opening Remarks

2. Roll Call

3. Executive Director's Report

4. Approve Agenda

B. Open Comment Period

1. Comments on Non-Agenda Items

C. Habitat Issues

1. Current Habitat Issues

D. Salmon Management

1. Tentative Adoption of 2021 Management Measures for Analysis

2. Methodology Review Preliminary Topic Selection

3. Clarify Council Direction on 2021 Management Measures

4. Southern Oregon/Northern California Coast Coho Endangered Species Act (ESA) Consultation

5. Further Direction for 2021 Management Alternatives

6. 2021 Management Measures—Final Action

E. Coastal Pelagic Species Management

1. National Marine Fisheries Service Report

2 Exempted Fishing Permits (EFPs) for 2021-2022—Final Action

3. Review of Essential Fish Habitat

4. Pacific Sardine Assessment, Harvest Specifications, and Management Measures—Final Action

F. Groundfish Management

1. National Marine Fisheries Service Report

2 Humpback Whale Endangered Species Act (ESA) Consultation

3. Scoping of Prioritized Non-trawl Sector Area Management Measures

4. Sablefish Gear Switching—Identify the Gear Switching Level to Use in Developing Alternatives

5. Cost Recovery Report and Final Regulations

6. Inseason Adjustments for 2021—Final Action

7. Implementation of the 2021 Pacific Whiting Fishery Under the U.S./Canada Agreement

G. Halibut Management

1. Incidental Catch Limits for 2021 Salmon Troll Fishery—Final Action

H. Administrative Matters

1. Research and Data Needs Update

2. Update on Executive Order 13921

3. Legislative Matters

4. Membership Appointments and Council Operating Procedures

5. Future Council Meeting Agenda and Workload Planning

Advisory Body Agendas

Advisory body agendas will include discussions of relevant issues that are on the Pacific Council agenda for this meeting and may also include issues that may be relevant to future Council meetings. Proposed advisory body agendas for this meeting will be available on the Pacific Council website www.pcouncil.org no later than Friday, March 26, 2021.

Schedule of Ancillary Meetings

Day 1—Tuesday, April 6, 2021

Coastal Pelagic Species Advisory Subpanel—8 a.m.

Coastal Pelagic Species Management Team—8 a.m.

Groundfish Advisory Subpanel—8 a.m.

Groundfish Management Team—8 a.m.

Habitat Committee—8 a.m.

Salmon Advisory Subpanel—8 a.m.

Salmon Technical Team—8 a.m.

Scientific and Statistical Committee—8 a.m.

Model Evaluation Workgroup—1 p.m.

Day 2—Wednesday, April 7, 2021

Coastal Pelagic Species Advisory Subpanel—8 a.m.

Coastal Pelagic Species Management Team—8 a.m.

Enforcement Consultants—8 a.m.

Groundfish Advisory Subpanel—8 a.m.

Groundfish Management Team—8 a.m.

Habitat Committee—8 a.m.

Salmon Advisory Subpanel—8 a.m.

Salmon Technical Team—8 a.m.

Scientific and Statistical Committee—8 a.m.

Legislative Committee—10 a.m.

Day 3—Thursday, April 8, 2021

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Highly Migrator Species Advisory Subpanel—8 a.m.

Highly Migratory Species Management Team—8 a.m.

Salmon Advisory Subpanel—8 a.m.

Salmon Technical Team—8 a.m.

Enforcement Consultants—As Necessary

Day 4—Friday, April 9, 2021

California State Delegation—7 a.m.

Oregon State Delegation—7 a.m.

Washington State Delegation—7 a.m.

Coastal Pelagic Species Advisory Subpanel—8 a.m.

Coastal Pelagic Species Management Team—8 a.m.

Ecosystem Advisory Subpanel—8 a.m.

Groundfish Advisory Subpanel—8 a.m.

Groundfish Management Team—8 a.m.

Salmon Advisory Subpanel—8 a.m.

Salmon Technical Team—8 a.m.

Enforcement Consultants—As Necessary

* No Meetings Scheduled for Saturday, April 10 through Sunday, April 11, 2021

Day 5—Monday, April 12, 2021

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Necessary

Day 6—Tuesday, April 13, 2021

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Necessary

Day 7—Wednesday, April 14, 2021

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Necessary

Day 8—Thursday, April 15, 2021

California State Delegation—7 a.m.

Oregon State Delegation—7 a.m.

Washington State Delegation—7 a.m.

Salmon Advisory Subpanel—8 a.m.

Salmon Technical Team—8 a.m.

Although non-emergency issues not contained in this agenda may come before the Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

Requests for sign language interpretation or other auxiliary aids should be directed to Mr. Kris Kleinschmidt at 503-820-2412 at least ten business days prior to the meeting date.

Authority: 16 U.S.C. 1801 et seq.

Dated: March 16, 2021.
Tracey L. Thompson,
Acting Deputy Director, Office of Sustainable Fisheries, National Marine Fisheries Service.

[FR Doc. 2021-05751 Filed 3-18-21; 8:45 am]

BILLING CODE 3510-22-P